DEPARTMENT OF THE INTERIOR

National Park Service

[NPS-WASO-NAGPRA-16874; PPWOCRADN0-PCU00RP14.R50000]

Notice of Inventory Completion: Department of Anthropology, Indiana University, Bloomington, IN

AGENCY: National Park Service, Interior.

ACTION: Notice.

SUMMARY: The Department of Anthropology at Indiana University has completed an inventory of human remains and associated funerary objects in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Indiana University NAGPRA Office. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Indiana University NAGPRA Office at the address in this notice by December 17, 2014.

ADDRESSES: Dr. Jayne-Leigh Thomas, NAGPRA Director, Indiana University, NAGPRA Office, Student Building 318, 701 E. Kirkwood Ave., Bloomington, IN 47405, telephone (812) 856-5315, email thomajay@indiana.edu.

SUPPLEMENTARY INFORMATION: Notice is here given in accordance with the Native American Graves Protection and Repatriation Act (NAGPRA), 25 U.S.C. 3003, of the completion of an inventory of human remains and associated funerary objects under the control of the Department of Anthropology at Indiana University, Bloomington, IN. The human remains and associated funerary objects were removed from the vicinity of Point Barrow, North Slope Borough, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains and associated funerary objects was made by Indiana University professional staff in consultation with representatives of the Native Village of Barrow Inupiat Traditional Government and the Inupiat Community of the Arctic Slope.

History and Description of the Remains

Between 1921 and 1936, human remains representing, at minimum, 8 individuals were recovered from an unknown location near Point Barrow, AK. These human remains were collected by Mollie Ward Greist, a native of Indiana who lived in Barrow, AK, from 1921-1936. The human remains were transferred to the Indiana University Glenn A. Black Laboratory of Archaeology in 1956, to the Mathers Museum of World Cultures in 1972, and then to the Department of Anthropology in 1990. The 1 associated funerary object is a fragment of oil soaked wood. No known individuals were identified. Catalog information indicates the affiliation of the remains to be “Inuit” or “Eskimo.”

The human remains were found in an area traditionally used by the Inupiat people. Accounts of Inupiat burials indicate that the human remains were placed into very shallow graves or were surface burials. Inupiat mortuary treatments also involved deceased individuals being wrapped in skins or furs and taken to a cemetery where they were placed on wood planks. Mollie Greist reported seeing hundreds of Native American skeletons lying on the ground near Point Barrow. A relationship of shared group identity can be reasonably traced between the human remains and the Native Village of Barrow Inupiat Government and the Inupiat Community of the Arctic Slope based on traditional geography, archeological evidence, historical accounts, and on-going cultural traditions.

Determinations Made by Indiana University

Officials of the Department of Anthropology at Indiana University have determined that:

• Pursuant to 25 U.S.C. 3001(9), the human remains described in this notice represent the physical remains of 8 individuals of Native American ancestry.

• Pursuant to 25 U.S.C. 3001(3)(A), the 1 object described in this notice is reasonably believed to have been placed with or near individual human remains at the time of death or later as part of the death rite or ceremony.

• Pursuant to 25 U.S.C. 3001(2), there is a relationship of shared group identity that can be reasonably traced between the Native American human remains and the Native Village of Barrow Inupiat Government and the Inupiat Community of the Arctic Slope.

Additional Requestors and Disposition

Lineal descendants or representatives of any Indian tribe or Native Hawaiian organization not identified in this notice that wish to request transfer of control of these human remains should submit a written request with information in support of the request to Dr. Jayne-Leigh Thomas, NAGPRA Director, Indiana University, NAGPRA Office, Student Building 318, 701 E. Kirkwood Ave., Bloomington, IN 47405, telephone (812) 856-5315, email thomajay@indiana.edu, by December 17, 2014. After that date, if no additional requestors have come forward, transfer of control of the human remains and associated funerary objects to the Native Village of Barrow Inupiat Government and the Inupiat Community of the Arctic Slope may proceed.

Indiana University is responsible for notifying the Native Village of Barrow Inupiat Government and the Inupiat Community of the Arctic Slope that this notice has been published.

Dated: October 2, 2014.
Melanie O'Brien,
Acting Manager, National NAGPRA Program.

[FR Doc. 2014-27152 Filed 11-14-14; 8:45 am]

BILLING CODE 4312-50-P